DEPARTMENT OF AGRICULTURE

Animal and Plant Health Inspection Service

9 CFR Parts 51, 71, 75, 78, 85, and 86

[Docket No. APHIS-2014-0018]

RIN 0579-AE02

Livestock Marketing Facilities

AGENCY: Animal and Plant Health Inspection Service, USDA.

ACTION: Proposed rule; reopening of comment period.

SUMMARY: We are reopening the comment period for our proposed rule that would amend the regulations governing approval of facilities that receive livestock moved in interstate commerce, as well as the conditions under which livestock may move to such facilities without official identification or prior issuance of an interstate certificate of veterinary inspection or alternative documentation. This action will allow interested persons additional time to prepare and submit comments.

DATES: The comment period for the proposed rule published on January 2, 2015 (80 FR 6 through 13) is reopened. We will consider all comments that we receive on or before April 15, 2015.

ADDRESSES: You may submit comments by either of the following methods:

• Federal eRulemaking Portal: Go to http://www.regulations.gov/#!docketDetail;D=APHIS-2014-0018.

• Postal Mail/Commercial Delivery: Send your comment to Docket No. APHIS-2014-0018, Regulatory Analysis and Development, PPD, APHIS, Station 3A-03.8, 4700 River Road Unit 118, Riverdale, MD 20737-1238.

Supporting documents and any comments we receive on this docket may be viewed at http://www.regulations.gov/#!docketDetail;D=APHIS-2014-0018 or in our reading room, which is located in Room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Mr. Neil Hammerschmidt, Program Manager, Animal Disease Traceability, VS, APHIS, 4700 River Road Unit 200, Riverdale, MD 20737-1236; (301) 851-3539.

SUPPLEMENTARY INFORMATION:

Background

On January 2, 2015, we published in the Federal Register (80 FR 6 through 13, Docket No. APHIS-2014-0018) a proposal to amend the regulations in 9 CFR subchapters B and C.

We proposed to amend the regulations in part 51 of subchapter B and several parts of subchapter C to, among other things, replace references to “approved livestock facilities,” “approved stockyards” and “specifically approved stockyards” with the term “approved livestock marketing facilities.”

We proposed to amend the regulations in § 71.20, which provide the conditions under which the Animal and Plant Health Inspection Service (APHIS) of the United States Department of Agriculture may approve a livestock facility to receive livestock that are moved interstate under conditions that are afforded only to such approved facilities. The current regulations in that section require the person legally responsible for the day-to-day operations of the facility to execute an agreement with APHIS regarding the manner in which the facility will operate, if approved. The provisions of the agreement are currently set forth in the regulations.

We proposed to remove the terms of the agreement from the regulations, and place them instead in a document titled “The Approved Livestock Marketing Facility Agreement,” which we would maintain on the Internet. We also proposed to update the terms of the agreement and to make other amendments to § 71.20 that would update and clarify the section's content.

We proposed to revise § 86.4 in order to clarify the conditions under which cattle and bison may be moved interstate to an approved livestock marketing facility without official identification. We also proposed to revise § 86.5 in order to clarify the conditions under which cattle or bison may be moved interstate to an approved livestock facility without an accompanying interstate certificate of veterinary inspection or owner-shipper statement.

Comments on the proposed rule were required to be received on or before March 3, 2015. We are reopening the comment period on Docket No. APHIS-2014-0018. The comment period will now close on April 15, 2015. We will also accept all comments received between March 4, 2015 (the day after the close of the original comment period) and the date of this notice. This action will allow interested persons additional time to prepare and submit comments.

Authority: 7 U.S.C. 8301-8317; 7 CFR 2.22, 2.80, and 371.4.

Done in Washington, DC, this 24th day of March 2015.
Jere L. Dick,
Acting Administrator, Animal and Plant Health Inspection Service.

[FR Doc. 2015-07217 Filed 3-27-15; 8:45 am]

BILLING CODE 3410-34-P